DEPARTMENT OF JUSTICE

Federal Bureau of Prisons

Notice of Availability of the Environmental Assessment for the Short Term Sentences Acquisition

AGENCY: U.S. Department of Justice, Federal Bureau of Prisons.

ACTION: Public Comment on Environmental Assessment.

SUMMARY: The U.S. Department of Justice, Federal Bureau of Prisons (BOP) announces the availability of the Environmental Assessment (EA) prepared for the proposed contract to secure additional inmate bed space for the BOP's growing inmate population.

As part of an initiative known as the Criminal Alien Requirement, the BOP has identified a specific requirement to confine a population of approximately 3,000 low-security adult male inmates (with one year or less remaining to serve) that are primarily criminal aliens. The BOP is seeking to reduce prison overcrowding by requesting additional contract beds.

In accordance with the National Environmental Policy Act (NEPA) of 1969, the Council of Environmental Quality Regulations (40 CFR parts 1500-1508), and the Department of Justice procedures for implementing NEPA (28 CFR part 61), the BOP has prepared an EA to evaluate the proposed action of contracting with one or more private contractors to house approximately 3,000 federal, low-security, adult male, criminal aliens at one or more privately owned and operated correctional facility(s).

The BOP's EA evaluates the potential environmental consequences of three action alternatives and the No Action Alternative. Natural, cultural, and socioeconomic resource impacts associated with the implementation of the proposed action at each of the proposed alternative locations were analyzed to determine how these resources may be affected by the proposed action.

The alternatives considered in the EA include the use of the following privately-owned and operated facilities: Diamondback Correctional Center, Watonga, Oklahoma; Great Plains Correctional Facility, Hinton, Oklahoma; and Willacy County Processing Center, Raymondville, Texas. Inmates housed in these facilities would be criminal aliens who have less than one year remaining to serve of their sentences.

Request For Comments

The BOP invites your participation and is soliciting comments on the EA. The EA will be the subject of a 30-day comment period which begins January 28, 2011 and ends February 28, 2011. Comments concerning the EA and the proposed action must be received during this time to be assured consideration. All written comments received during this review period will be taken into consideration by the BOP. Copies of the EA are available for public viewing at: Watonga Public Library 301 N. Prouty, Watonga, OK; Norman Smith Memorial Library, 115 E. Main St., Hinton, OK; and Reber Memorial Library, 193 N. 4th St., Raymondville, Texas.

The EA is available upon request. To request a copy of the EA, please contact: Richard A. Cohn, Chief, or Issac J. Gaston, Site Selection Specialist, Capacity Planning and Site Selection Branch, Federal Bureau of Prisons, 320 First Street, NW., Washington, DC 20534 Tel: 202-514-6470, Fax: 202-616-6024/E-mail: racohn@bop.gov or igaston@bop.gov.

FOR FURTHER INFORMATION CONTACT: Richard A. Cohn, or Issac J. Gaston, Federal Bureau of Prisons.

Dated: January 20, 2011.
Issac J. Gaston,
Site Specialist, Capacity Planning and Site Selection Branch.

[FR Doc. 2011-1817 Filed 1-31-11; 8:45 am]

BILLING CODE P